DEPARTMENT OF ENERGY

Federal Energy Regulatory Commission

[Project No. 2784-004]

Pacific Gas and Electric Company; Notice of Application Tendered for Filing With the Commission, and Establishing Procedural Schedule for Licensing and Deadline for Submission of Final Amendments

Take notice that the following transmission line only project application has been filed with the Commission and is available for public inspection.

a. Type of Application: Subsequent License—Transmission Line Only.

b. Project No: P-2784-004.

c. Date Filed: April 18, 2011.

d. Applicant: Pacific Gas and Electric Company (PG&E).

e. Name of Project: Rollins Transmission Line Project.

f. Location: The Rollins Transmission Line Project is located in Placer and Nevada counties, California.

g. Filed Pursuant to: Federal Power Act 16 U.S.C. 791(a)-825(r).

h. Applicant Contact: Forrest Sullivan, Senior Project Manager, Pacific Gas and Electric Company, 5555 Florin Perkins Road, Sacramento, CA, 95826. Tel: (916) 386-5580.

i. FERC Contact: Mary Greene, (202) 502-8865 or mary.greene@ferc.gov.

j. Status: This application is not ready for environmental analysis at this time.

k. Description of Project: The Project is connected with the Yuba-Bear Hydroelectric Project, FERC Project No. 2266, owned and operated by the Nevada Irrigation District (NID). The Project consists of a single circuit, 3-phase, 60-kilovolt, wood-pole transmission line extending 0.72 mile from NID's Rollins powerhouse switchyard to PG&E's interconnected transmission grid. The project is within a 40 foot corridor. PG&E proposes to remove from the project, an access road that is 1,867 feet in length, with project widths between 20 and 60 feet. The project occupies a total of 3.46 acres, all of which is under private ownership.

PG&E is not proposing to modify the existing Project and does not plan any changes to the operation or maintenance of the transmission line.

l. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

m. With this notice, we are initiating consultation with the California State Historic Preservation Officer (SHPO), as required by section 106, National Historic Preservation Act, and the regulations of the Advisory Council on Historic Preservation, 36 CFR 800.4.

n. Procedural schedule and final amendments: This application will be processed according to the following Licensing Schedule. Revisions to the schedule will be made if the Commission determines it necessary to do so.

Milestone | Tentative date
Notice of Acceptance/Notice of Ready for Environmental Analysis | June 2011.
Filing of recommendations, preliminary terms and conditions, and fishway prescriptions | August 2011.
Commission issues Draft EIS | February 2012.
Comments on Draft EIS | March 2012.
Modified Terms and Conditions | May 2012.
Commission Issues Final EIS | September 2012.

Final amendments to the application must be filed with the Commission no later than 30 days from the issuance date of the notice soliciting final terms and conditions.

Dated: April 29, 2011.
Kimberly D. Bose,
Secretary.

[FR Doc. 2011-10958 Filed 5-4-11; 8:45 am]

BILLING CODE P